DEPARTMENT OF EDUCATION

Office of Elementary and Secondary Education; Overview Information; Impact Aid Program—American Recovery and Reinvestment Act of 2009—Impact Aid Discretionary Construction Program; Notice Inviting Applications for New Awards under the American Recovery and Reinvestment Act of 2009

Catalog of Federal Domestic Assistance (CFDA) Number: 84.401.

Dates:

Applications Available: August 17, 2009.

Deadline for Transmittal of Applications: October 1, 2009.

Deadline for Intergovernmental Review: November 30, 2009.

Full Text of Announcement

I. Funding Opportunity Description

Purpose of Program: To provide grants for emergency repairs and modernization of school facilities to certain local educational agencies (LEAs) that submitted timely applications eligible for funding under either section 8002 (Payments for Federal Property) or section 8003 (Basic Support Payments) of the Elementary and Secondary Education Act of 1965, as amended (ESEA), for FY 2008. Funds awarded under this competition are appropriated under the American Recovery and Reinvestment Act of 2009, Public Law 111-5 (ARRA).

Priorities: In this notice, the Secretary is establishing two priorities for the ARRA Impact Aid Discretionary Construction Program grant competition. Competitive Preference Priority 1 is from section 805(b)(2)(A) of the ARRA. Competitive Preference Priority 2 is being established in accordance with section 437(d)(1) of the General Education Provisions Act (GEPA), 20 U.S.C. 1232(d)(1).

Competitive Preference Priorities: These priorities are competitive preference priorities. Under 34 CFR 75.105(c)(2)(i), we will award an additional 5 points to emergency repair applications and up to 2 points for projects that are projected to be completed within 24 months of receiving awards.

These priorities are:

Competitive Preference Priority 1. Projects that propose emergency repairs of school facilities will be awarded 5 points.

Competitive Preference Priority 2. Emergency or modernization projects that are projected to be completed within 24 months of receiving awards. The Secretary will award 2 points to applications for projects with proposed, feasible completion dates within 12 months of the time of award. The Secretary will allocate 1 point to applications for projects with proposed, feasible completion dates between 12 and 24 months from the time of award. Point allocations will be based on the project periods provided in the applications, subject to feasibility verification by panel reviewers. Section 805(b)(5)(D) of the ARRA provides for the Secretary to consider: “The feasibility of project completion within 24 months from award” in reviewing applications for grants under this program.

Waiver of Proposed Rulemaking: Under the Administrative Procedure Act (5 U.S.C. 553), the Department generally offers interested parties the opportunity to comment on proposed priorities. Section 437(d)(1) of GEPA, however, allows the Secretary to exempt from rulemaking requirements, regulations governing the first grant competition under a new or substantially revised program authority. This is the first grant competition for this program under section 8007(b) of the Impact Aid Program (Title VIII of the ESEA) and the ARRA and therefore qualifies for this exemption. In order to ensure timely grant awards, the Secretary has decided to forego public comment on Competitive Preference Priority 2 under section 437(d)(1) of GEPA. This priority will apply to the ARRA Impact Aid Discretionary Construction Program grant competition only.

Program Authority: 20 U.S.C. 7707(b); Division A, Title VIII of the American Recovery and Reinvestment Act of 2009, Public Law 111-5.

Applicable Regulations: (a) The Education Department General Administrative Regulations (EDGAR) in 34 CFR parts 75 (except for 34 CFR 75.600 through 75.617), 77, 79, 80, 82, 84, 85, 97, 98, and 99. (b) The regulations for this program in 34 CFR part 222, except for the regulations in 34 CFR 222.170-171, 222.177-184, 222.188-189, and 222.193-195(a).

Note: The regulations in 34 CFR part 79 apply to all applicants except Federally recognized Indian Tribes.

II. Award Information

Type of Award: Discretionary grant.

Estimated Available Funds: $59,400,000.

Estimated Range of Awards: $50,000-$5,000,000.

Estimated Average Size of Awards: $2,500,000.

Estimated Number of Awards: 24.

Note: The Department is not bound by any estimates in this notice.

Project Period: Up to 36 months. We will determine each project period based on the nature of the project proposed and the time needed to complete the project. We will specify this period in the Grant Award Notification.

III. Eligibility Information

1. Eligible Applicants: Under Section 8005(b)(4) of the Recovery Act, an LEA is eligible to receive a grant under this competition if the LEA timely submitted an application eligible for funding under either Section 8002 (Payments for Federal Property) or Section 8003 (Basic Support Payments) for FY 2008; and has a total assessed value of real property available that may be taxed for school purposes (referred to hereinafter as assessed value) of less than $100 million or has an average assessed value per pupil that is less than the State average assessed value per pupil. Applicants may submit only one application for one facility within the LEA.

2. a. Cost Sharing or Matching: See 20 U.S.C. 7707(b)(5) and 34 CFR 222.174, 222.191, and 222.192. Under section 805(b)(5)(E) of the ARRA, in reviewing proposed awards, the Secretary considers the funds available to the grantee from other sources, including local, State, and other Federal funds. Consistent with 34 CFR 222.192, applicants will be required to submit financial reports for FYs 2007, 2008, and 2009, showing closing balances for all school funds. If satisfactory data are not available for these years, the Secretary uses data from the most recent three consecutive fiscal years for which data that are satisfactory to the Secretary are available. If funds are available at the close of FY 2009 or the most recent fiscal year available that are not obligated for capital purposes, those funds will be considered as available for the proposed project, which may reduce or eliminate the award.

b. Supplement-Not-Supplant: As outlined in 34 CFR 222.174, grants made under this program are subject to supplement, not supplant funding provisions. Grant funds under this program may not be used to supplant or replace other available non-Federal construction money.

IV. Application and Submission Information

1. Address to Request Application Package: An electronic application is available at: http://e-grants.ed.gov. For assistance, please contact Kristen Walls-Rivas, Impact Aid Program, U.S. Department of Education, 400 Maryland Avenue, SW., room 3C155, Washington, DC 20202-6244. FAX: 1-866-799-1272.

If you use a telecommunications device for the deaf (TDD), call the Federal Relay Service (FRS), toll free, at 1-800-877-8339.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this program. Applicants must complete and submit all forms contained in the application package in order to be considered for funding under this program. Applicants may submit only one application for one facility within the LEA.

Page Limit: There is a three-page limit for the project narratives for the emergency and modernization applications. There is a two-page limit for the justification for rebuilding. All narratives must be double spaced in 12-point font. Applications that exceed the page limit or are not in the proper format will be rejected.

3. Submission Dates and Times:

Applications Available: August 17, 2009.

Deadline for Transmittal of Applications: October 1, 2009.

We will not consider an application that does not comply with the deadline requirements.

Individuals with disabilities who need an accommodation or auxiliary aid in connection with the application process should contact the person listed under FOR FURTHER INFORMATION CONTACT in section VII of this notice.

Deadline for Intergovernmental Review: November 30, 2009.

4. Intergovernmental Review: This program is subject to Executive Order 12372 and the regulations in 34 CFR part 79. Information about Intergovernmental Review of Federal Programs under Executive Order 12372 is in the application package for this program.

5. Funding Restrictions: Applicants may submit only one application for one facility within the LEA. The Department may elect not to fund an application for an LEA based on factors specified in 34 CFR 75.217, including the applicant's past performance and use of funds under a prior award. Unallowable costs are specified in 34 CFR 222.173. Grant recipients must, in accordance with Federal, State and local laws, use emergency repair and modernization grants only for permissible construction activities at public elementary and secondary school facilities. The scope of a selected project will be identified as part of the final grant award conditions. A grantee must also ensure that its construction expenditures under this program meet the requirements of 34 CFR 222.172 (allowable program activities) and 34 CFR 222.173 and section 1604 of the ARRA (prohibited activities). If applying for new construction, the LEA must hold title to the existing facility at the time of application.

We reference additional regulations outlining funding restrictions in the Applicable Regulations section of this notice.

6. Other Submission Requirements: Applications for grants under this competition must be submitted electronically unless you qualify for an exception to this requirement in accordance with the instructions in this section.

a. Electronic Submission of Applications

Applications for grants under the ARRA Impact Aid Discretionary Construction Grant Program, CFDA number 84.401, must be submitted electronically using e-Application, accessible through the Department's e-Grants system, accessible through the e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for the ARRA Impact Aid Discretionary Construction Program and all necessary assurances and certifications. Cover pages, assurances, and certifications may be sent either by facsimile or by e-mail. All additional narrative documents must be attached to the application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• After you electronically submit your application, fax or e-mail a signed copy of the cover pages, assurances, and the emergency certification form for the Application for Impact Aid Discretionary Construction Program—ARRA Grants to the Impact Aid Program after following these steps:

(1) Print a copy of the application from e-Application for your records.

(2) Have the applicant's Authorized Representative date and sign the cover page and all of the assurance pages.

(3) Have the independent certifying official sign the certification for the application.

(4) Place the PR/Award number in the upper right hand corner of the hard-copy signature page of the Application for the ARRA Impact Aid Discretionary Construction Program.

(5) Fax or e-mail the signed cover page, independent official certification, and all assurances for the ARRA Impact Aid Discretionary Construction Program by 12:00:00 midnight, Washington, DC time, on the application deadline to the Impact Aid Program at 1-866-799-1272 or by e-mail to Impact.Aid@ed.gov.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If E-Application is unavailable due to technical problems with the system and therefore the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Kristen Walls-Rivas, Impact Aid Program, U.S. Department of Education, 400 Maryland Avenue, SW., Room 3C155, Washington, DC 20202-6244. FAX: 1-866-799-1272.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Impact Aid Program, Attention: (CFDA Number 84.401), Room 3C155, 400 Maryland Avenue, SW., Washington, DC 20202-6244.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application, by hand, on or before the application deadline date, to the Department at the following address: U.S. Department of Education, Impact Aid Program, Attention: (CFDA Number 84.401), Room 3C155, 400 Maryland Avenue, SW., Washington, DC 20202-6244.

The Impact Aid Program accepts hand deliveries daily between 8:00 a.m. and 4:30:00 p.m., Washington, DC time, except Saturdays, Sundays, and Federal holidays.

Note for Mail or Hand Delivery of Paper Applications: If you mail or hand deliver your application to the Department—

(1) You must indicate on the envelope—if not provided by the Department—the CFDA number, including suffix letter, if any, of the competition under which you are submitting your application; and

(2) The Impact Aid Program will mail to you a notification of receipt of your grant application. If you do not receive this grant notification within 15 business days from the application deadline date, you should call the U.S. Department of Education Impact Aid Program at (202) 260-3858.

V. Application Review Information

1. Selection Criteria: The selection criteria for this competition are from section 805 of the ARRA and 20 U.S.C. 7707(b) as applicable and are further clarified in 34 CFR 222.185 and 222.186 and are described in the following paragraphs. The Secretary gives distinct weight to the listed selection criteria. The maximum score for each criterion is indicated in parentheses. Within each criterion, the Secretary evaluates each factor equally, unless otherwise specified. The maximum score that an application may receive for the selection criteria is 100 points.

For emergency applications, the criteria and weights are as follows:

(1) Need for project/severity of the school facility problem to be addressed by the proposed project. (Up to 34 points)

(a) Identification of a valid emergency condition that threatens the health and/or safety of the facility's occupants and the severity of the emergency condition. Applicants should describe the systems or areas of the facility involved, e.g., HVAC, roof, floor, windows; the type of space affected, such as instructional, resource, food service, recreational, general support, or other areas; the percentage of building occupants affected by the emergency; and the importance of the facility or affected area to the instructional program.

(b) Impact of the emergency condition on the health and safety of the building occupants or on program delivery.

(c) Project urgency or risk to occupants if the facility condition is not addressed. Applicants should describe projected increased future costs and effects on occupants if the condition is not addressed; the anticipated effect of the proposed project on the useful life of the facility or the future need for major construction; and the age and condition of the facility and date of any previous renovation of affected areas.

(2) Extent to which the proposed project addresses the emergency condition. (Up to 26 points)

(a) Extent to which the described emergency condition is consistent with the Independent Certification.

(b) Ability of the proposed project to respond to the emergency condition. The readers will evaluate the extent to which the scope and cost of the proposed project correspond with the identified emergency condition.

(c) The justification for rebuilding, if proposed. The readers will assess the validity of the justification for rebuilding a facility instead of renovating it.

(3) The extent to which the project will use energy-efficient and recyclable materials. (Up to 12 points total)

(4) The extent to which the project will use non-traditional or alternative building methods and materials. (Up to 12 points total)

(a) Cost savings associated with the use of alternative building methods and materials.

(b) Time savings associated with the use of alternative building methods and materials.

(5) Ability to respond or pay. (Up to 16 points total)

(a) If an applicant is eligible because the applicant's assessed value of real property per pupil is less than the State's average assessed value per pupil, points will be distributed based on the LEA's ranking within the State. The LEAs ranked below the State average will be divided into quartiles. All sixteen points will be allocated to LEAs in the quartile with the lowest average assessed value per pupil and only four points will be allocated to LEAs in the quartile with the highest average assessed value per pupil of those ranked. (Up to 16 points)

(b) If an applicant is eligible because the applicant's total assessed value of real property is less than $100,000,000, points will be distributed based on four groupings of LEAs in the State with total assessed values of less than $100 million. LEAs with total assessed values of less than $25,000,000 would receive 16 points. LEAs with total assessed values between $25,000,000 and $50,000,000 would receive 12 points. LEAs with total assessed values between $50,000,000 and $75,000,000 would receive 8 points. LEAs with total assessed values between $75,000,000 and $99,999,999 would receive 4 points. (Up to 16 points)

For modernization applications, the criteria and weights are as follows:

(1) Justification that the proposed project is a valid modernization need because either:

• The facility is unable to meet the needs of the current enrollment (Example: The building capacity is 300 students while the current enrollment is 350; three additional classrooms are needed to meet State standards for capacity and a maximum 20-to-1 student/teacher ratio.); or

• The facility is unable to support the provision of a comprehensive educational program to meet State standards (Example: The State's high school graduation requirements include the completion of a chemistry class but the facility has no science lab.) (Up to 34 points.)

(2) Extent to which the proposed project addresses the modernization need. (Up to 26 points.)

(a) Project urgency in fiscal terms (Examples: The proposed project will extend the useful life of the current facility on a cost-effective basis, improve program quality with an updated facility, or delay the need to replace the facility).

(b) Extent to which the described modernization need is consistent with the Independent Certification.

(c) Ability of the proposed project to respond to the modernization need. The readers will evaluate the extent to which the scope and cost of the proposed project correspond with the identified modernization need.

(d) The justification for rebuilding, if proposed. The readers will assess the validity of the justification for rebuilding a facility instead of renovating it.

(3) The extent to which the project will use energy-efficient and recyclable materials. (Up to 12 points total)

(4) The extent to which the project will use alternative building methods and materials. (Up to 12 points total)

(a) Cost savings associated with the use of alternative building methods and materials.

(b) Time savings associated with the use of alternative building methods and materials.

(5) Ability to respond or pay. (Up to 16 points total)

(a) If an applicant is eligible because the applicant's assessed value of real property per pupil is less than the State's average assessed value per pupil, points will be distributed based on the LEA's ranking within the State. The LEAs ranked below the State average will be divided into quartiles. All sixteen points will be allocated to LEAs in the quartile with the lowest average assessed value per pupil and only four points will be allocated to LEAs in the quartile with the highest average assessed value per pupil of those ranked. (Up to 16 points)

(b) If an applicant is eligible because the applicant's total assessed value of real property is less than $100,000,000, points will be distributed based on four groupings of LEAs in the State with total assessed values of less than $100 million. LEAs with total assessed values of less than $25,000,000 would receive 16 points. LEAs with total assessed values between $25,000,000 and $50,000,000 would receive 12 points. LEAs with total assessed values between $50,000,000 and $75,000,000 would receive 8 points. LEAs with total assessed values between $75,000,000 and $99,999,999 would receive 4 points. (Up to 16 points)

2. Review and Selection Process: Upon receipt, Impact Aid program staff will screen all applications to eliminate any that do not meet the eligibility requirements, are incomplete, exceed the page limit requirement, are not properly formatted, or are late. Program staff will also calculate the scores for each application under competitive preference priorities 1 and 2 and criterion (5)—ability to respond or pay. Panel reviewers will assess the applications under criteria (1), (2), (3) and (4), and the feasibility of the proposed completion date under competitive preference priority 2.

Applications are ranked based on the total number of points received during the review process.

The Department may elect not to fund applications for an LEA based on factors specified in 34 CFR 75.217, including the applicant's performance and use of funds under a prior award.

VI. Award Administration Information

1. Award Notices: If your application is successful, we will notify your U.S. Representative and U.S. Senators and send you a Grant Award Notification (GAN). We may notify you informally, also.

If your application is not evaluated or not selected for funding, we will notify you.

2. Administrative and National Policy Requirements: We identify administrative and national policy requirements in the application package and reference these and other requirements in the Applicable Regulations section of this notice. In addition, there are a number of ARRA requirements that are detailed in the ARRA Impact Aid Frequently Asked Questions (FAQs), which can be accessed at the following site: http://www.ed.gov/policy/gen/leg/recovery/guidance/impactaid.pdf. See for example, FAQs 12 through 16 regarding reporting, infrastructure investment certification, Buy American, and National Environmental Protection Act provisions, and FAQs 19 through 21 regarding Davis-Bacon wage, Indian Preference contract, and civil rights law requirements. We anticipate providing further guidance on the infrastructure investment certifications at a later time.

We reference the regulations outlining the terms and conditions of an award in the Applicable Regulations section of this notice and include these and other specific conditions in the GAN. The GAN also incorporates the approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). In addition to the reporting requirements specified in the regulations, there are additional reporting requirements for these awards as specified under section 1512 of ARRA.

Funds awarded through this program were appropriated under the American Recovery and Reinvestment Act (ARRA) of 2009, Public Law 111-5, and are subject to additional accountability and transparency reporting requirements, which are described in section 1512(c) of the ARRA. Recipients of ARRA funds must submit quarterly reports on the expenditure of these funds no later than ten days after the end of each calendar quarter through a centralized reporting Web site administered by the Office of Management and Budget (OMB): http://www.federalreporting.gov. The information reported at this Web site will be available to the Department, the White House, OMB and the public on http://www.Recovery.gov.

At a minimum, an LEA should anticipate reporting:

• The total amounts of ARRA funds received and expended or obligated.

• The name, description, and evaluation of the project or activity's completion status.

• An estimate of the number of jobs that were saved or created with the funds.

Recipients will need to maintain accurate documentation of all ARRA expenditures to ensure that the data reported are accurate, complete, and reliable.

Additional guidance providing further detail on the quarterly report will be provided at a later time.

4. Performance Measures: The condition of school facilities in LEAs after completion of projects with grants under this program will be compared to the reported condition before receipt of the grants. This information will be obtained from the current Table 10 of the section 8003 application, which will be required for all grant recipients. The measure is currently in place for the regular section 8007(b) program. A second performance measure will identify the proportion of projects funded with these grants that are completed within 24 months of the awards.

VII. Agency Contact

For Further Information Contact: Kristen Walls-Rivas, Impact Aid Program, U.S. Department of Education, 400 Maryland Avenue, SW., room 3C155, Washington, DC 20202-6244. Telephone: (202) 260-3858 or by e-mail: Impact.Aid@ed.gov.

If you use a TDD, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education to perform the functions of the Assistant Secretary for Elementary and Secondary Education.

Dated: August 12, 2009.
Joseph C. Conaty,
Director, Academic Improvement and Teacher Quality Programs.

[FR Doc. E9-19694 Filed 8-14-09; 8:45 am]

BILLING CODE 4000-01-P